DEPARTMENT OF HEALTH AND HUMAN SERVICES

National Institutes of Health

State-of-the-Science Conference: Tobacco Use: Prevention, Cessation and Control; Notice

Notice is hereby given of the National Institutes of Health (NIH) “State-of-the-Science Conference on Tobacco Use: Prevention, Cessation, and Control” to be held June 12-14, 2006, in the NIH Natcher Conference Center, 45 Center Drive, Bethesda, Maryland 20892. The conference will begin at 8:30 a.m. on June 12 and 13, and at 9 a.m. on June 14, and will be open to the public.

Tobacco use remains the Nation's leading preventable cause of premature death. Each year, more than 440,000 Americans die from disease caused by tobacco use, accounting for one in every five deaths. Cigarette smoking alone is responsible for more than 30 percent of cancer deaths annually in the U.S., and smoking is also an important cause of death from heart disease, stroke, and chronic obstructive pulmonary disease. Currently, there are an estimated 44.5 million (21 percent) adult smokers and an estimated 3.75 million (22%) high school student smokers in the U.S. Cigarettes are the predominant form of tobacco consumed; however, other forms of tobacco, such as smokeless tobacco, cigars, and pipes, are also used. In addition to the toll in human lives, tobacco use places an enormous economic burden on society. For 1995 to 1999, estimated annual smoking-attributable economic costs in the U.S. were $75.5 billion for direct medical care for adults and $81.9 billion for lost productivity.

Despite enormous progress in reducing the prevalence of tobacco use in the U.S, it is unlikely that the Healthy People 2010 objectives of reducing smoking prevalence to 12 percent or less in adults and 16 percent or less in youth will be reached on schedule. A better understanding of how effective strategies for prevention and treatment can be developed and implemented across diverse segments of the population is crucial to accelerate progress; meeting the Healthy People 2010 prevalence goals is projected to prevent an additional 7.1 million premature deaths after 2010.

For this reason, the National Cancer Institute and the National Institutes of Health's Office of Medical Applications of Research will sponsor a State-of-the-Science Conference on Tobacco Use: Prevention, Cessation, and Control, June 12-14, 2006, in Bethesda, Maryland. The key questions to be addressed at the State-of-the-Science Conference are:

• What are the effective population- and community-based interventions to prevent tobacco use in adolescents and young adults, including among diverse populations?

• What are the effective strategies for increasing consumer demand for and use of proven individually oriented cessation treatments, including among diverse populations?

• What are the effective strategies for increasing the implementation of proven population-level tobacco-use cessation strategies, particularly by healthcare systems and communities?

• What is the effect of smokeless-tobacco-product marketing and use on population harm from tobacco use?

• What is the effectiveness of prevention and of cessation intervention in populations with co-occurring morbidities and risk behaviors?

• What research is needed to make the most progress and greatest public health gains nationally and internationally?

At the conference, invited experts will present information pertinent to these questions, and a systematic literature review prepared under contract with the Agency for Healthcare Research and Quality (AHRQ) will be summarized. Conference attendees will have ample time to ask questions and provide statements during open discussion periods.

After weighing the scientific evidence, an unbiased, independent panel will prepare and present a State-of-the-Science statement addressing the key conference questions. The panel will also hold a press conference to address questions from the media. The draft statement will be published online later that day, and the final version will be released approximately six weeks later.

This conference is intended for researchers interested in tobacco prevention, cessation, and control; health care professionals; health care system professionals; health policy experts; public health practitioners; and interested members of the public.

The primary sponsors of this meeting are the NIH National Cancer Institute and the NIH Office of Medical Applications of Research; there are fifteen cosponsors from NIH and other HHS agencies.

Advance information about the conference and conference registration materials may be obtained from American Institutes for Research of Silver Spring, Maryland, by calling 888-644-2667, or by sending e-mail to consensus@mail.nih.gov. American Institutes for Research's mailing address is 10720 Columbia Pike, Silver Spring, MD 20901. Registration information is also available on the NIH Consensus Development Program Web site at http://consensus.nih.gov.

Please note: The NIH has recently instituted new security measures to ensure the safety of NIH employees and property. All visitors must be prepared to show a photo ID upon request. Visitors may be required to pass through a metal detector and have bags, backpacks, or purses inspected or x-rayed as they enter NIH buildings. For more information about the new security measures at NIH, please visit the Web site at http://www.nih.gov/about/visitorsecurity.htm.

Dated: March 20, 2006.
Raynard S. Kington,
Deputy Director, National Institutes of Health.

[FR Doc. E6-4438 Filed 3-27-06; 8:45 am]

BILLING CODE 4140-01-P